DEPARTMENT OF DEFENSE

Department of the Army; Corps of Engineers

Notice of Intent To Prepare a Joint Environmental Impact Statement for Commercial Dredging of Construction Aggregate From the Missouri River in Missouri and Kansas

AGENCY: U.S. Army Corps of Engineers, DoD.

ACTION: Notice of intent.

SUMMARY: The U.S. Army Corps of Engineers (COE) is preparing an Environmental Impact Statement (EIS) to analyze the direct, indirect, and cumulative effects of continued commercial dredging of sand and gravel from the Missouri River in Missouri and Kansas. The proposed dredging will occur in a navigable waterway and the portion of dredged material that is too coarse or too fine to be used will be discharged back into the river, thereby requiring Department of the Army (DA) authorization under Section 10 of the River and Harbors Act and Section 404 of the Clean Water Act. Commercial dredging in the Missouri River has been ongoing for more than 50 years but has increased from approximately 1.3 million tons per year in 1974 to approximately 8 million tons in 2006. The current DA permits for six Missouri River commercial dredging operations will expire December 31, 2009 and those six operations and four proposed operations have applied for new DA permits to dredge up to 12.435 million tons per year beginning in 2010.

DATES: Scoping meetings will be held:

1. January 6, 2009, 4 to 8 p.m., Jefferson City, Missouri.

2. January 7, 2009, 4 to 8 p.m., Cottleville, Missouri (St. Louis area).

3. January 8, 2009, 4 to 8 p.m., Kansas City, Missouri.

ADDRESSES: The scoping meeting locations are:

1. January 6, 2009 in the Art Gallery at the Missouri River Regional Library, 214 Adams Street, Jefferson City, Missouri.

2. January 7, 2009 in the auditorium at the St. Charles Community College, 4601 Mid Rivers Mall Drive, Cottleville, Missouri.

3. January 8, 2009 in the Lobby Courtyard at the KCI-Expo Center, 11730 N. Ambassador Dr., Kansas City, Missouri.

FOR FURTHER INFORMATION CONTACT: Questions and comments regarding the proposed action and EIS should be addressed to Mr. Cody S. Wheeler, Regulatory Project Manager, U.S. Army Corps of Engineers, 601 East 12th Street, Room 706, Kansas City, MO 64106; (816) 389-3739; cody.s.wheeler@usace.army.mil. For special needs (visual or hearing impaired, Spanish translation, etc.) requests during the scoping meetings, please call Cody Wheeler by December 22, 2008.

SUPPLEMENTARY INFORMATION: The COE will be conducting public scoping meetings at three locations (see DATES and ADDRESSES) to describe the proposed activity, preliminary alternatives, the NEPA compliance process, and to solicit input on the issues and alternatives to be evaluated and other related matters. Written comments for scoping will be accepted until February 10, 2009. The COE has prepared a scoping announcement to familiarize agencies, the public and interested organizations with the proposed Project and potential environmental issues that may be involved. The scoping announcement includes a list of the dredgers' requested annual extraction tonnage and the requested dredging reaches. Copies of the scoping announcement will be available at the public scoping meetings or can be requested by mail.

The applicants include the following currently authorized dredgers: Holliday Sand and Gravel Company (St. Joseph and Kansas City, Missouri); Con-Agg of MO, LLC (Columbia, Missouri); Capital Sand Company, Inc. (Jefferson City, Missouri); Hermann Sand & Gravel, Inc. (Hermann, Missouri); J.T.R. Inc (Jotori Dredging, St. Louis, Missouri); and Limited Leasing Company (formerly St. Charles Sand Company, St. Louis, Missouri). Applicants not currently authorized to dredge include The Master's Dredging Company, Inc. (Kansas City, Missouri); Kaw Valley Sand and Gravel, Inc. (Kansas City, Missouri); Muenks Brothers Quarries, Inc. (Loose Creek, Missouri); and Edward N. Rau Contractor Company (Washington, Missouri). The final EIS will also apply to future applications for similar dredging operations on the Missouri River in Missouri and Kansas.

The COE has documented significant degradation or down-cutting of the river bed in areas where dredging has been concentrated. Bed degradation may disable water intake structures, initiate tributary head cuts, promote bank and levee instability, undermine pipelines and bridge piers, increase encroachment of the high bank, eliminate aquatic habitat and create navigation hazards. Some of these effects have already been observed in some areas. Reaches that are not obviously affected may have structures vulnerable to failure during floods or other catastrophic events.

The EIS will be prepared according to the COE's procedures for implementing the National Environmental Policy Act (NEPA) of 1969, as amended, 42 U.S.C. 4332(2)(c), and consistent with the COE's policy to facilitate public understanding and review of agency proposals. As part of the EIS process, a full range of reasonable alternatives including the proposed dredging and no dredging will be evaluated.

The COE has invited the U.S. Environmental Protection Agency, the U.S. Fish and Wildlife Service, the U.S. Geologic Survey, the Missouri Department of Natural Resources, the Missouri Department of Conservation, the Kansas Department of Health and Environment, the Kansas Department of Wildlife and Parks, and the Kansas Geologic Survey to be contributing agencies in the formulation of the EIS.

Dated: November 26, 2008.
Cody S. Wheeler,
Regulatory Project Manager, Regulatory Branch.

[FR Doc. E8-28826 Filed 12-4-08; 8:45 am]

BILLING CODE 3720-58-P